DEPARTMENT OF THE INTERIOR

Bureau of Land Management

[ES-930-1310-FI; WVES 50537]

Notice of Proposed Reinstatement of Terminated Oil and Gas Lease

AGENCY: Bureau of Land Management, Interior.

ACTION: Notice of Proposed Reinstatement of Terminated Oil and Gas Lease.

SUMMARY: Under the provisions of Section 371(a) of the Energy Policy Act of 2005, the Bureau of Land Management (BLM) received a petition for reinstatement of oil and gas WVES 50537 for lands in Pocahontas County, West Virginia. The petition was filed on time and was accompanied by all rentals due since the date the leases terminated under the law.

FOR FURTHER INFORMATION CONTACT: Gina Goodwin, Lead Land Law Examiner, at 703-440-1534, or Bureau of Land Management—Eastern States, 7450 Boston Boulevard, Springfield, Virginia.

SUPPLEMENTARY INFORMATION: The lessee has agreed to the amended lease terms for rentals and royalties at rates of $5.00 per acre, or fraction thereof, per year and 16⅔ percent respectively. The lessee has paid the required administrative fee and publication fee to reimburse the Department for the cost of this Federal Register notice. The lessee has met all the requirements for reinstatement of the leases as set out in Section 31(d) and (e) of the Mineral Leasing Act of 1920, as amended (30 U.S.C. 188), and the Bureau of Land Management is proposing to reinstate the lease WVES 50537, effective February 1, 2004, under the original terms and conditions of the lease and the increased rental and royalty rates cited above. BLM has not issued any valid leases affecting the lands.

Dated: May 26, 2006.
Michael D. Nedd,
State Director, Eastern States.

[FR Doc. E6-8964 Filed 6-8-06; 8:45 am]

BILLING CODE 4310-GJ-P